NATIONAL SCIENCE FOUNDATION

Advisory Committee for Geosciences; Notice of Meeting

In accordance with the Federal Advisory Committee Act (Pub. L. 92-463, as amended), the National Science Foundation announces the following meeting:

NAME: Advisory Committee for Geosciences (1755).

DATE AND TIME:

April 13, 2016, 8:45 a.m.-5:00 p.m.

April 14, 2016, 8:30 a.m.-2:00 p.m.

PLACE: National Science Foundation, Stafford I, Room 1235, 4201 Wilson Blvd., Arlington, Virginia 22230.

TYPE OF MEETING: Open.

CONTACT PERSON: Melissa Lane, National Science Foundation, Suite 705, 4201 Wilson Blvd., Arlington, Virginia 22230. Phone 703-292-8500.

MINUTES: May be obtained from the contact person listed above.

PURPOSE OF MEETING: To provide advice, recommendations, and oversight on support for geoscience research and education including atmospheric, geo-space, earth, ocean and polar sciences.

Agenda

Wednesday, April 13, 2016

Directorate and NSF activities and plans

Division Subcommittee Meetings

Meeting with President-designate of the National Academy of Sciences

Meeting with the NSF Director and CIO

Thursday, April 14, 2016

Division Subcommittee Meetings

Meeting with Head of the NSF Office of International Science and Engineering

Action Items/Planning for Fall Meeting

Dated: March 3, 2016.
Crystal Robinson,
Committee Management Officer.

[FR Doc. 2016-05157 Filed 3-8-16; 8:45 am]

BILLING CODE 7555-01-P